DEPARTMENT OF STATE

[Public Notice: 10778]

Determination Under Section 7070(c)(1) of the Department of State, Foreign Operations, and Related Programs Appropriations Act, 2018 and Section 7047(c)(1) of the Department of State, Foreign Operations, and Related Programs Appropriations Act, 2019

Pursuant to section 7070(c)(1) of the Department of State, Foreign Operations, and Related Programs Appropriations Act, 2018 (Div. K, Pub. L. 115-141) and section 7047(c)(1) of the Department of State, Foreign Operations, and Related Programs Appropriations Act, 2019 (Div. F, Pub. L. 116-6), and pursuant to delegated authority, I hereby determine that the Government of Nicaragua has recognized the independence of, or has established diplomatic relations with, the Russian occupied Georgian territories of Abkhazia and Tskhinvali Region/South Ossetia.

This determination shall be published in the Federal Register and on the Department of State website and, along with the accompanying Memorandum of Justification, shall be reported to Congress.

John J. Sullivan,
Deputy Secretary of State.

[FR Doc. 2019-10817 Filed 5-22-19; 8:45 am]

BILLING CODE 4710-29-P